DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or obtain a copy of the information collection plans, call the SAMHSA Reports Clearance Officer at 240-276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Data Resource Toolkit Protocol for the Crisis Counseling Assistance and Training Program (OMB No. 0930-0270)—Reinstatement

The SAMHSA Center for Mental Health Services (CMHS) as part of an interagency agreement with the Federal Emergency Management Agency (FEMA) provides a toolkit to be used for the purposes of collecting data on the Crisis Counseling Assistance and Training Program (CCP). The CCP provides supplemental funding to states and territories for individual and community crisis intervention services after a presidentially declared disaster.

The CCP has provided disaster mental health services to millions of disaster survivors since its inception, and, with more than 30 years of accumulated expertise, it has become an important model for federal response to a variety of catastrophic events. Recent CCP grants include programs in Puerto Rico, the U.S. Virgin Islands, Florida, Texas, Tennessee, California, Missouri, Louisiana, and West Virginia. These grants have helped survivors after disasters including Hurricanes Harvey, Maria, and Irma in 2017; wildfires, severe storms, flooding, and tornadoes in 2016 and 2017; and landslides and mudslides in 2016. CCPs address the short-term mental health needs of communities primarily through (a) outreach and public education, (b) individual and group counseling, and (c) referral. Outreach and public education serve primarily to normalize reactions and to engage people who may need further care. Crisis counseling assists survivors in coping with current stress and symptoms to return to pre-disaster functioning. Crisis counseling relies largely on “active listening,” and crisis counselors also provide psycho-education (especially about the nature of responses to trauma) and help clients build coping skills. Crisis counselors typically work with a single client once or a few times. Because crisis counseling is time-limited, referral is the third important function of CCPs. Counselors are expected to refer a survivor to formal treatment if he or she has developed a mental and/or substance use disorder or is having difficulty in coping with his or her disaster reactions.

Data about services delivered and users of services will be collected throughout the program period. The data will be collected via the use of a toolkit that relies on standardized forms. At the program level, the data will be entered quickly and easily into a cumulative database mainly through mobile data entry or paper forms (depending on resource availability) to yield summary tables for quarterly and final reports for the program. Mobile data entry allows for the data to be uploaded and linked to a national database that houses data collected across CCPs. This database provides SAMHSA/CMHS and FEMA with a way of producing summary reports of services provided across all programs funded.

The components of the toolkit are listed and described below:

• Encounter logs. These forms document all services provided. The CCP requires crisis counselors to complete these logs. There are three types of encounter logs: (1) Individual/Family Crisis Counseling Services Encounter Log, (2) Group Encounter Log, and (3) Weekly Tally Sheet.

○ Individual/Family Crisis Counseling Services Encounter Log. Crisis counseling is defined as an interaction that lasts at least 15 minutes and involves participant disclosure. This form is completed by the crisis counselor for each service recipient, defined as the person or people who actively participated in the session (that is, by participating in conversation), not someone who is merely present. The same form may be completed with other family or household members who are actively engaged in the visit. Information collected includes demographics, service characteristics, risk factors, event reactions, and referral data.

○ Group Encounter Log. This form is used to collect data on either a group crisis counseling encounter or a group public education encounter. The crisis counselor indicates in a checkbox at the top the class of activities (that is, counseling or education). Information collected includes service characteristics, group identity and characteristics, and group activities.

○ Weekly Tally Sheet. This form documents brief educational and supportive encounters not captured on any other form. Information collected includes service characteristics, daily tallies, and weekly totals for brief educational or supportive contacts and for material distribution with no or minimal interaction.

• Assessment and Referral Tools. These tools—one for adults and one for children and youth—provide descriptive information about intensive users of services, defined as all individuals receiving a third individual crisis counseling visit or those who are continuing to experience severe distress that may be affecting their ability to perform daily activities. This tool will typically be used beginning 3 months after the disaster and will be completed by the crisis counselor.

• Participant Feedback Survey. These surveys are completed by and collected from a sample of service recipients, not every recipient. Sampling is done on a biannual basis at 6 months and 1 year after the disaster. Information collected includes satisfaction with services, perceived improvements in coping and functioning, types of exposure, and event reactions.

• Service Provider Feedback Form. These surveys are completed by and collected from the CCP service providers anonymously at 6-months and 1-year after the disaster. The survey will be coded on several program-level as well as worker-level variables. However, the program itself will be identified and shared with program management only if the number of individual workers who completed the survey was greater than 10.

There are no changes to the Individual Encounter Log, Group Encounter Log, Weekly Tally, and the Assessment and Referral Tools since the last approval. Revisions include the addition of a gross annual household income question to the Participant Feedback Survey form. For the Service Provider Feedback Form, questions about different types of CCP training and their usefulness were updated to improve capturing training feedback. CMHS also added a new section to mobile technology and data entry, and the questions in this section were updated from the previous form where they were listed under a different section. Finally, CMHS has added questions related to the counselors' income and personal experience(s) with the disaster, as they are typically members of the affected community prior to employment by the CCP, and program leadership is responsible for monitoring the counselors' stress levels.

In Table 1 are the estimates of the annualized burden hours.

Table 1—Annualized Hour Burden Estimates
Form | Number of respondents | Responses per respondent | Hours per response | Total hour burden
Individual/Family Crisis Counseling Services Encounter Log | 600 | 196 | 0.08 | 9,408
Group Encounter Log | 100 | 33 | 0.05 | 165
Weekly Tally Sheet | 600 | 52 | 0.15 | 4,680
Assessment and Referral Tools | 600 | 14 | 0.17 | 1,428
Participant Feedback Form | 1,000 | 1 | 0.25 | 250
Service Provider Feedback Form | 100 | 1 | 0.41 | 41
Total | 3,000 |  |  | 15,972

Send comments to Summer King, SAMHSA Reports Clearance Officer, 5600 Fishers Lane, Room 15E57-B, Rockville, MD 20857 OR email her a copy at summer.king@samhsa.hhs.gov. Written comments should be received by January 7, 2019.

Summer King,
Statistician.

[FR Doc. 2018-24283 Filed 11-6-18; 8:45 am]

BILLING CODE 4162-20-P